ENVIRONMENTAL PROTECTION AGENCY

[ER-FRL-8991-4]

Notice of Intent: Designation of an Ocean Dredged Material Disposal Site (ODMDS) Off the Mouth of the St. Johns River, FL

AGENCY: U.S. Environmental Protection Agency (EPA) Region 4.

ACTION: Notice of Intent to prepare an Environmental Impact Statement (EIS) for the designation of an ODMDS off the mouth of the St. Johns River, Florida.

Purpose: EPA has the authority to designate ODMDSs under Section 102 of the Marine Protection, Research and Sanctuaries Act of 1972 (33 U.S.C. 1401 et seq.). It is EPA's policy to prepare a voluntary National Environmental Policy document for all ODMDS designations (63 FR 58045, October 1998).

For Further Information, to Submit Comments, and to be Placed On the Project Mailing List Contact: Mr. Christopher McArthur, U.S. Environmental Protection Agency, Region 4, 61 Forsyth Street, Atlanta, Georgia 30303, phone 404-562-9391, e-mail: mcarthur.christopher@epa.gov.

SUMMARY: EPA in cooperation with the U.S. Army Corps of Engineers Jacksonville District (USACE) intends to prepare an EIS to designate a new ODMDS offshore the mouth of the St. Johns River. The EIS will provide the information necessary to evaluate the potential environmental impacts associated with ODMDS alternatives and identify a preferred alternative that meets EPA's site selection criteria at 40 CFR 228.5 and 228.6.

Need for Action: The USACE has requested that EPA designate an additional ODMDS, 4 square nautical miles in size, offshore the mouth of the St. Johns River for the disposal of dredged material from the Jacksonville Harbor Federal Navigation Project and from Naval Station Mayport. The need for an additional ODMDS is based on observed mounding at the existing Jacksonville ODMDS, capacity computer modeling results, and estimates of future proposed projects.

Alternatives: The following proposed alternatives have been tentatively defined.

1. No action. The no action alternative is defined as not designating an additional ocean disposal site. The existing Jacksonville ODMDS would reach capacity in 8 to 10 years.

2. Expansion of the existing Jacksonville ODMDS. Expand the existing Jacksonville ODMDS to the south and east.

3. South Alternative ODMDS. Designate an ODMDS 5.8 to 8.6 nautical miles southeast of St. Johns River entrance.

4. North Alternative ODMDS. Designate an ODMDS 4.1 to 7.1 nautical miles northeast of St. Johns River entrance.

Scoping: EPA is requesting written comments from federal, state, and local governments, industry, non-governmental organizations, and the general public on the range of alternatives considered, specific environmental issues to be evaluated in the EIS, and the potential impacts of the alternatives for an ODMDS designated offshore the mouth of the St. Johns River. Scoping comments will be accepted for 60 days, beginning with the date of this Notice. A public scoping meeting will be held in the Jacksonville, Florida area in August of 2010.

Estimated Date of Draft EIS Release: September 2011.

Responsible Official: A. Stanley Meiburg, Acting Regional Administrator, Region 4.

Dated: July 1, 2010.
Susan E. Bromm,
Director, Office of Federal Activities.

[FR Doc. 2010-16773 Filed 7-8-10; 8:45 am]

BILLING CODE P